SUSQUEHANNA RIVER BASIN COMMISSION

Notice of Actions Taken at June 12, 2008 Meeting

AGENCY: Susquehanna River Basin Commission.

ACTION: Notice of Commission Actions.

SUMMARY: At its regular business meeting on June 12, 2008 in Elmira, New York, the Commission: (1) Heard a special infrastructure presentation by Ms. Sandra Allen of the N.Y. Department of Environmental Conservation, (2) received a report on the present hydrologic conditions of the basin showing a drying trend in parts of the basin, (3) approved a phased-in proposal to increase the Commission's consumptive use mitigation fee, (4) rescinded certain unneeded Commission policies, (5) adopted the FY-10 Budget, (6) approved two contracts, and (7) elected a new Chairman (Robert M. Summers of Maryland) and Vice-Chairman (Brig. Gen. Todd Semonite) to serve in the next fiscal year.

In addition, the Commission heard a Legal Counsel's report, heard an update on recent activities in the regulatory program, and convened a public hearing to: (1) Approve certain water resources projects, including one enforcement action; (2) consider a request for a hearing on an administrative appeal regarding Docket No. 20080305, Mountainview Thoroughbred Racing Association, Inc.; (3) consider a request to reopen Docket No. 20020809, Mountainview Thoroughbred Racing Association, Inc.; and (4) consider a request by Mountainview Thoroughbred Racing Association, Inc. for reconsideration of a denial of a request for stay. Eight water resources projects were also tabled. See the Supplementary Information section below for more details on these actions.

DATES: June 12, 2008.

ADDRESSES: Susquehanna River Basin Commission, 1721 N. Front Street, Harrisburg, PA 17102-2391.

FOR FURTHER INFORMATION CONTACT: Richard A. Cairo, General Counsel, telephone: (717) 238-0423; ext. 306; fax: (717) 238-2436; e-mail: rcairo@srbc.net or Deborah J. Dickey, Secretary to the Commission, telephone: (717) 238-0422, ext. 301; fax: (717) 238-2436; e-mail: ddickey@srbc.net. Regular mail inquiries may be sent to the above address.

SUPPLEMENTARY INFORMATION: The Commission approved a contract for staff consulting work with Indiana County Conservation District on the Bear Run AMD Restoration Project in Banks Township, Indiana County, Pa., and another contract with the U.S. Army Corps of Engineers for work related to the establishment of ecological flow needs in critical stream reaches of the Susquehanna River Basin.

The Commission also convened a public hearing and took the following actions:

Public Hearing—Projects Approved:

1. Project Sponsor and Facility: Fortuna Energy Inc. (Southern Tier of N.Y., and Tioga and Bradford Counties, Pa.). Consumptive water use of up to 3.000 mgd in Steuben, Chemung, Schuyler, Tioga, and Broome Counties, N.Y., and Tioga and Bradford Counties, Pa.

2. Project Sponsor and Facility: Fortuna Energy Inc. (Catatonk Creek), Town of Spencer, Tioga County, N.Y. Surface water withdrawal of up to 0.101 mgd.

3. Project Sponsor and Facility: East Resources, Inc. (Elmira, N.Y., Area). Consumptive water use of up to 4.000 mgd in Chemung and Steuben Counties, N.Y., and Tioga County, Pa.

4. Project Sponsor and Facility: East Resources, Inc. (Chemung River), Town of Big Flats, Chemung County, N.Y. Surface water withdrawal of up to 0.107 mgd.

5. Project Sponsor and Facility: Fortuna Energy Inc. (Chemung River), Chemung Town, Chemung County, N.Y. Surface water withdrawal of up to 0.250 mgd.

6. Project Sponsor and Facility: East Resources, Inc. (Tioga River; at Tioga Junction), Lawrence Township, Tioga County, Pa. Surface water withdrawal of up to 0.107 mgd.

7. Project Sponsor and Facility: East Resources, Inc. (Mansfield, Pa., Area). Consumptive water use of up to 4.000 mgd in Tioga and Bradford Counties, Pa.

8. Project Sponsor and Facility: East Resources, Inc. (Tioga River; near Mansfield), Richmond Township, Tioga County, Pa. Surface water withdrawal of up to 0.107 mgd.

9. Project Sponsor and Facility: Keystone Landfill, Inc., Dunmore Borough, Lackawanna County, Pa. Consumptive water use of up to 0.100 mgd and groundwater withdrawal of 0.010 mgd from Well 1, 0.020 mgd from Well 2, and 0.020 mgd from Well 3, and settlement of an outstanding compliance matter.

10. Project Sponsor: Kratzer Run Development, LLC. Project Facility: Eagles Ridge Golf Club (formerly Grandview Golf Course/Susquehanna Recreation Corporation), Ferguson Township, Clearfield County, Pa. Consumptive water use of up to 0.099 mgd and surface water withdrawal of up to 0.099 mgd.

11. Project Sponsor and Facility: Commonwealth Environmental Systems, L.P., Foster, Frailey and Reily Townships, Schuylkill County, Pa. Modification of consumptive water use and groundwater approval (Docket No. 20070304).

12. Project Sponsor and Facility: Lykens Valley Golf Course (formerly Harrisburg North Golf Course), Upper Paxton Township, Dauphin County, Pa. Consumptive water use of up to 0.200 mgd and surface water withdrawal of up to 0.200 mgd.

13. Project Sponsor and Facility: Spring Creek Golf Course (Spring Creek), Derry Township, Dauphin County, Pa. Consumptive water use of up to 0.081 mgd and surface water withdrawal of up to 0.081 mgd.

14. Project Sponsor: Titanium Hearth Technologies, Inc. Project Facility: TIMET North American Operations, Caernarvon Township, Berks County, Pa. Consumptive water use of up to 0.133 mgd, and settlement of an outstanding compliance matter.

15. Project Sponsor and Facility: Conestoga Country Club (Well 1), Manor and Lancaster Townships, Lancaster County, Pa. Groundwater withdrawal of 0.281 mgd.

16. Project Sponsor and Facility: Rock Springs Generation Facility, Rising Sun, Cecil County, Maryland. Modification of surface water withdrawal, groundwater withdrawal, and consumptive water use approval (Docket No. 20001203).

Public Hearing—Enforcement Action: The Commission accepted a settlement offer in the amount of $8,500 for the following project.

Project Sponsor and Facility: Standing Stone Golf Club (Docket No. 20020612), Oneida Township, Huntington County, Pa.

Public Hearing—Denial of Request for Administrative Hearing: Under Section 808.2 of the Commission's Regulation relating to administrative appeals, the Commission denied a request for an administrative hearing concerning the following project:

Project Sponsor: Mountainview Thoroughbred Racing Association; Project Facility: Withdrawal of up to 0.400 mgd (30-day average) for maintenance and operation of a horse racing and casino gaming facility, Docket No. 20080305;

Location: East Hanover Township, Dauphin County, Pa. Appellant: East Hanover Township, et al.

Public Hearing—Denial of Request to Reopen Docket: Under Section 806.32 of the Commission's Regulation relating to reopening of project approvals, the Commission denied a request for the reopening of the following project approval:

Project Sponsor: Mountainview Thoroughbred Racing Association Project;

Facility: Consumptive Use of up to 0.438 mgd (peak day) for maintenance and operation of a horse racing and casino gaming facility, Docket No. 20020809;

Location: East Hanover Township, Dauphin County, Pa. Appellant: East Hanover Township.

Public Hearing—Denial of Request for Reconsideration of Denial of Request for Stay: Under Section 808.2 of the Commission's Regulation relating to administrative appeals, the Commission denied a request for reconsideration of its previous denial of a request for stay of the following project approval:

Project Sponsor: Mountainview Thoroughbred Racing Association; Project

Facility: Withdrawal of up to 0.400 mgd (30-day average) for maintenance and operation of a horse racing and casino gaming facility, Docket No. 20080305;

Location: East Hanover Township, Dauphin County, Pa. Appellant: East Hanover Township, et. al.

Public Hearing—Projects Tabled:

1. Project Sponsor and Facility: East Resources, Inc. (Seeley Creek), Town of Southport, Chemung County, N.Y. Applications for consumptive water use of up to 0.250 mgd and surface water withdrawal of up to 0.250 mgd.

2. Project Sponsor and Facility: East Resources, Inc. (Crooked Creek; near Middlebury Center), Middlebury Township, Tioga County, Pa. Applications for consumptive water use of up to 0.250 mgd and surface water withdrawal of up to 0.250 mgd.

3. Project Sponsor and Facility: Fortuna Energy Inc. (Sugar Creek), West Burlington Township, Bradford County, Pa. Applications for consumptive water use of up to 0.250 mgd and surface water withdrawal of up to 0.250 mgd.

4. Project Sponsor and Facility: Fortuna Energy Inc. (Towanda Creek), Franklin Township, Bradford County, Pa. Applications for consumptive water use of up to 0.250 mgd and surface water withdrawal of up to 0.250 mgd.

5. Project Sponsor and Facility: Fortuna Energy Inc. (Susquehanna River), Sheshequin Township, Bradford County, Pa. Applications for consumptive water use of up to 0.250 mgd and surface water withdrawal of up to 0.250 mgd.

6. Project Sponsor and Facility: Neptune Industries, Inc. (Lackawanna River), Borough of Archbald, Lackawanna County, Pa. Application for surface water withdrawal of up to 0.499 mgd.

7. Project Sponsor: United States Gypsum Company. Project Facility: Washingtonville Plant (Well W-A8), Derry Township, Montour County, Pa. Application for groundwater withdrawal of 0.350 mgd.

8. Project Sponsor: Pennsy Supply, Inc. Project Facility: Hummelstown Quarry, South Hanover Township, Dauphin County, Pa. Application for surface water withdrawal of up to 29.925 mgd.

Authority: Public Law 91-575, 84 Stat. 1509 et seq., 18 CFR parts 806, 807, and 808.

Dated: July 10, 2008.
Thomas W. Beauduy,
Deputy Director.

[FR Doc. E8-16540 Filed 7-17-08; 8:45 am]

BILLING CODE 7040-01-P